INTERNATIONAL TRADE COMMISSION

[Investigation No. 337-TA-571]

In the Matter of Certain L-Lysine Feed Products, Their Methods of Production and Genetic Constructs for Production; Notice of Commission Determination Not To Review an Initial Determination Amending the Complaint and Notice of Investigation To Add a Complainant

AGENCY: U.S. International Trade Commission.

ACTION: Notice.

SUMMARY: Notice is hereby given that the U.S. International Trade Commission has determined not to review an initial determination (“ID”) issued by the presiding administrative law judge (“ALJ”) in the above-captioned investigation. The ALJ granted the motion of complainant to add its parent company, as an additional complainant in the investigation.

FOR FURTHER INFORMATION CONTACT: Jean Jackson, Esq., Office of the General Counsel, U.S. International Trade Commission, 500 E Street, SW., Washington, DC 20436, telephone (202) 205-3104. Copies of the public version of the Commission's opinion and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: On May 31, 2006, the Commission instituted an investigation based on a complaint filed by Ajinomoto Heartland LLC (“Heartland”) of Chicago, Illinois under section 337 of the Tariff Act of 1930, as amended, 19 U.S.C. 1337 (71 FR 30958, May 31, 2006). The complaint, as amended and supplemented, alleges violations of section 337 in the importation into the United States, the sale for importation, and the sale within the United States after importation of certain L-lysine feed products and genetic constructs for production thereof by reason of infringement of claims 13, 15-19, and 21-22 of U.S. Patent No. 5,827,698 and claims 1, 2, 15, and 22 of U.S. Patent No. 6,040,160. The complaint further alleges that an industry in the United States exists as required by subsection (a)(2) of section 337. Global Bio-Chem Technology Group Company Ltd.; Changchun Dacheng Bio-Chem Engineering Development Co., Limited; Changchun Baochen Bio-Chem Development Co., Ltd; Changchun Dahe Bio Technology Development Co. Ltd., all of China, and Bio-Chem Technology (HK) Limited of Hong Kong (collectively “Bio-Chem”) were named respondents in the investigation. Id.

On June 29, 2006, complainant Heartland filed a motion to amend the complaint to add its parent company, Ajinomoto, Inc. (“Ajinomoto”) as a complainant. The motion was supported by the Commission investigative attorney and Bio-chem. On July 11, 2006, the ALJ granted complainant's motion, finding that complainant had demonstrated good cause for adding Ajinomoto as a complainant at this time. No petitions for review of the ID were filed.

This action is taken under the authority of section 337 of the Tariff Act of 1930 (19 U.S.C. 1337) and section 210.42(h) of the Commission's Rules of Practice and Procedure (19 CFR 210.42(h)).

Issued: July 25, 2006.
By order of the Commission.
Marilyn R. Abbott,
Secretary to the Commission.

[FR Doc. E6-12144 Filed 7-28-06; 8:45 am]

BILLING CODE 7020-02-P